SECURITIES AND EXCHANGE COMMISSION

[Release No. 34-88340; File No. 4-757]

Reopening of Comment Period for Notice of Proposed Order Directing the Exchanges and the Financial Industry Regulatory Authority To Submit a New National Market System Plan Regarding Consolidated Equity Market Data

AGENCY: Securities and Exchange Commission.

ACTION: Reopening of comment period.

SUMMARY: The Securities and Exchange Commission (“Commission”) is reopening the comment period for a notice of proposed order (“Proposed Order”), which would require the participants in the existing national market system plans governing the public dissemination of real-time, consolidated equity market data for national market system stocks to propose a single, new equity data plan. The original comment period for the Proposed Order ended on February 28, 2020. The Commission is reopening the time period in which to provide the Commission with comments until March 20, 2020. This action will allow interested persons additional time to analyze the issues and prepare their comments.

DATES: The comment period for the Proposed Order published Jan. 14, 2020 (85 FR 2164), is reopened. Public comments are due on or before March 20, 2020.

ADDRESSES: Comments may be submitted by any of the following methods:

Electronic Comments

• Use the Commission's internet comment form (http://www.sec.gov/rules/sro.shtml); or

• Send an email to rule-comments@sec.gov. Please include File Number 4-757 on the subject line

Paper Comments

• Send paper comments to Secretary, Securities and Exchange Commission, 100 F Street NE, Washington, DC 20549-1090.

All submissions should refer to File Number 4-757. This file number should be included on the subject line if email is used. To help us process and review your comments more efficiently, please use only one method. The Commission will post all comments on the Commission's internet website (http://www.sec.gov/rules/proposed.shtml). Copies of the all written statements with respect to the Proposed Order that are filed with the Commission, and all written communications relating to the Proposed Order between the Commission and any person, other than those that may be withheld from the public in accordance with the provisions of 5 U.S.C. 552, will be available for website viewing and printing in the Commission's Public Reference Room, 100 F Street NE, Washington, DC 20549 on official business days between the hours of 10:00 a.m. and 3:00 p.m. All comments received will be posted without change. Persons submitting comments are cautioned that we do not redact or edit personal identifying information from comment submissions. You should submit only information that you wish to make available publicly. All submissions should refer to File Number 4-757 and should be submitted on or before March 20, 2020.

SUPPLEMENTARY INFORMATION: The Commission originally requested that comments on the Proposed Order be received by February 28, 2020.¹ The Commission has determined to reopen the comment period until March 20, 2020 to allow interested persons additional time to analyze the issues and prepare their comments.

¹ See Securities Exchange Act Release No. 87906 (Jan. 8, 2020), 85 FR 2164, 2165 (Jan. 14, 2020).

By the Commission.
Dated: March 6, 2020.
J. Matthew DeLesDernier,
Assistant Secretary.

[FR Doc. 2020-05243 Filed 3-13-20; 8:45 am]

BILLING CODE 8011-01-P